DEPARTMENT OF THE INTERIOR

Bureau of Land Management

[CA-670-1232-FH]

Notice of Proposed Supplementary Rules on Public Land In California; Correction

AGENCY: Bureau of Land Management, California Desert District, California, Interior.

ACTION: Supplementary rules for payment of special recreation permit fees immediately upon arrival at the Imperial Sand Dunes Recreation Area; Correction.

SUMMARY: The Bureau of Land Management (BLM) published a document in the Federal Register of November 20, 2003, concerning proposed supplementary rules for the Imperial Sand Dunes Recreation Area. The notice contained incorrect information on comment procedures.

FOR FURTHER INFORMATION CONTACT: Neil Hamada, (760) 337-4451, as to the substance of the proposed supplementary rules, or Ted Hudson, (202) 452-5042, as to this correction.

Correction

In the Federal Register of November 20, 2003, in FR Doc. 03-28960, on page 65472, in the first column, remove the heading “Electronic Access and Filing Address” and the first paragraph following that heading (the first full paragraph in the first column).

Dated: November 24, 2003.
Michael H. Schwartz,
Group Manager, Regulatory Affairs.

[FR Doc. 03-30038 Filed 12-2-03; 8:45 am]

BILLING CODE 4310-40-P